DEPARTMENT OF LABOR

Employment and Training Administration

[TA-W-58,999]

Kelly Services, Boulder, CO; Notice of Termination of Investigation

Pursuant to section 221 of the Trade Act of 1974, as amended, an investigation was initiated on March 13, 2006, in response to a worker petition filed by the State of Colorado on behalf of workers at Kelly Services, Boulder, Colorado.

The petitioner has requested that the petition be withdrawn. Consequently, the investigation has been terminated.

Signed at Washington, DC this 27th day of March 2006.
Elliott S. Kushner,
Certifying Officer, Division of Trade Adjustment Assistance.

[FR Doc. E6-5378 Filed 4-11-06; 8:45 am]

BILLING CODE 4510-30-P